DEPARTMENT OF HEALTH AND HUMAN SERVICES

Request for Applications for the HIV Prevention Program for Young Women Attending Minority Institutions—Historically Black Colleges and Universities, Hispanic Serving Institutions, and Tribal Colleges and Universities

AGENCY: Office on Women's Health, Office of Public Health and Science, Office of the Secretary, HHS.

ACTION: Notice.

Announcement Type: Competitive Cooperative Agreement—FY 2006 Initial announcement.

OMB Catalog of Federal Domestic Assistance: The OMB Catalog of Federal Domestic Assistance number is 93.015.

DATES: Application availability: May 4, 2006.

Applications due by 5 p.m. Eastern Time on May 4, 2006.

SUMMARY: This program is authorized by 42. U.S.C. 300u-2(a).

This initiative is intended to demonstrate the need for targeting prevention programs to college-age minority women to increase their knowledge and abilities in the areas of: Understanding how the female body works in relation to their increased vulnerability for acquiring HIV/AIDS; practicing the ABC ¹—Abstinence, Being Faithful, Condoms; gaining empowerment skills sufficient to negotiate safe sex practices; and shifting their attitudes and beliefs so that health becomes a priority in their lives. Moreover, the program intends to address HIV/AIDS/STDs from a cultural perspective by acknowledging the implications of being a young minority woman and educating them to take leadership in teaching their peers and partners how to live without contracting HIV/AIDS/STDs. Therefore, this pilot HIV/AIDS prevention education program will demonstrate what it takes to equip college-age minority women with the tools and the means to effectively communicate with their partners and protect themselves from HIV/AIDS/STDs. The OWH HIV/AIDS program began in 1999 with funding from the Minority AIDS Fund (formerly Minority AIDS Initiative) to address the gaps in services provided to women who are at risk or living with HIV. Since the inception of the HIV/AIDS programs, the program focus has expanded from two to seven. These programs include: (1) HIV Prevention for Women Living in the Rural South, (2) Prevention and Support for Incarcerated/Newly Released Women, (3) Model Mentorship for Strengthening Organizational Capacity, (4) HIV Prevention for Young Women Attending Minority Institutions (e.g. Historically Black Colleges and Universities, Hispanic Serving Institutions, and Tribal Colleges and Universities), (5) HIV Prevention for Women Living in the U.S. Virgin Islands, (6) Prevention and Support for HIV Positive Women Living in Puerto Rico, and (7) Inter-generational Approaches to HIV Prevention for Women Across the Lifespan.

¹ USAID. The “ABCs” of HIV prevention: Report of a USAID technical meeting on behavior change approaches to primary prevention of HIV/AIDS. Washington, DC: Population, Health and Nutrition Information Project, 2003. http://www.usaid.gov/our_work/global_health/aids/TechAreas/prevention/abc.pdf.

Funding will be directed at activities designed to improve the delivery of services to women disproportionately impacted by HIV/AIDS.

I. Funding Opportunity Description

The Office on Women's Health (OWH) within the Department of Health and Human Services (DHHS) is the focal point for women's health within the Department. The OWH, under the direction of the Deputy Assistant Secretary for Health (Women's Health), provides leadership to promote health equity for women and girls through gender specific approaches. The primary intent is to increase HIV prevention knowledge and reduce the risk of contracting HIV among young minority women. The OWH hopes to fulfill this purpose by providing funding to Minority Institutions to develop and implement a HIV/AIDS/STD prevention education program targeting young women on campus.

The proposed HIV prevention program must address HIV prevention from a women's health gender-based, women-centered, women-friendly, women-relevant, holistic, multi-disciplinary, cultural perspective. Information and services provided must be culturally and linguistically appropriate for young minority women. Women's health issues are defined in the context of women's lives, including their multiple social roles and the importance of relationships with other people to their lives. This definition of women's health encompasses mental and physical health and spans the life course.

The goals for this program are:

• Identify effective methods to educate and increase awareness for prevention of HIV/AIDS/STDs infection among women attending minority institutions.

• Develop capacity for minority institutions to adequately address HIV/AIDS/STDs prevention education needs of the women on campus.

• Establish partnerships with campus student organizations and community organizations to increase access to reproductive health education, behavioral risk-reduction information, counseling, and HIV/STD testing.

• Develop gender centered education and prevention training modules on HIV/AIDS/STDs prevention education.

• Ensure health education training modules are culturally and linguistically appropriate for young minority women.

The objectives for this program are:

• Increase on campus activities targeting women at risk for HIV infection.

• Increase knowledge of accurate HIV/STD prevention information among women attending minority institutions.

• Improve HIV prevention education efforts involving women on campus.

• Improve access to HIV health related services for women attending minority institutions.

In order to achieve the goals and objectives of the program, the grantee shall: (1) Develop a HIV/AIDS program to provide prevention education for women attending the university. The program should offer a variety of services to the women including counseling and HIV/STD testing services, mental heath support, and education, etc. The program shall include the university student health services, inter-collegiate departments, and other community resources in the development of the program; (2) make sub-awards or funding opportunities available to student health services, inter-collegiate departments, student organizations, or other schools within the institution for the development and implementation of outreach activities. Note: The proposals for the sub-awards should include the following:

• Goal/s (specifying number of minority college-age women and their partners to be reached), objectives, curriculum (evidence-based), literature, and types of professional resource persons to be used when conducting required pilot program activities, i.e., focus groups, meetings, conferences, lectures, health summits, media campaigns, counseling series, etc., during the academic year;

• Program Plan (specifying approach/methods; program format/s; staff required, detailed time line);

• Evaluation pre/post tests, participant satisfaction surveys, activity questionnaires, etc.

(3) Enter into a Memorandum of Understanding/Agreement (MOU/MOA) with program partners and resources. These entities may include student health services, inter collegiate departments, local health care entities, social services, community based organizations, etc. The MOUs should clearly outline the services to be provided by each of the collaborating organizations and whether any funds will be paid to the collaborating partner; (4) develop a plan to fund the services provided by the intercollegiate collaboration among the university officials, colleges, or schools within the institution; (5) ensure the sub-award recipients are developing and implementing an HIV/AIDS/STD prevention education program targeting women (and their partners) on campus. Request the sub-award recipients to submit reports on the activities; (6) hold an institution-wide wellness event (i.e. conference, seminar series, awareness week, etc.) that specifically addresses HIV/AIDS/STD prevention conference for all women campus-wide promoting the overall wellness among women; (7) evaluate the effectiveness of their program and conduct an internal or external evaluation of the program; outline indicators that reflect the impact on the target population, and provide a written analysis of the evaluation findings.

The grantee shall also, with input from community representatives and college/university officials, put into place and track a set of measurable objectives for improving health outcomes and decreasing health disparities for minority women on campus. In addition, the grantee shall demonstrate how program activities and performance reflect female responsive strategies. Finally, the grantee shall develop a plan, in partnership with the college/university and sub-award recipients, to continue the program activities beyond OWH funding.

II. Award Information

The OWH program will be supported through the cooperative agreement mechanism. Using this mechanism, the OWH anticipates making twelve new 2-year awards in FY 2006 for program activities at six Historically Black Colleges & Universities, four Hispanic Serving Institutions and two Tribal Colleges and Universities. The anticipated start date for new awards is September 1, 2006 and the anticipated period of performance is September 1, 2006, through August 31, 2008. Approximately $840,000 is available to make awards of up to $70,000 total cost (direct and indirect) for a 12-month period and OWH anticipates that $140,000 will be available for the 2-year project period. However, the actual number of awards made will depend upon the quality of the applications received and the amount of funds available for the program. Non-competing continuation awards of up to $70,000 (total cost) per year will be made subject to satisfactory performance and availability of funds.

The HIV Prevention for Women Attending Minority Institutions program is a collaborative effort between the OWH and the Office of Minority Health, Office of Public Health and Science. These offices will provide the technical assistance and oversight necessary for the implementation, conduct, and assessment of program activities.

The applicant shall:

1. Implement the program described in the application.

2. Develop implementation plans.

3. Conduct an evaluation of their HIV Prevention program.

4. Oversee that college/university sub-award recipients develop and implement an HIV/AIDS/STD prevention education program targeting women students (and their partners) on campus; Award a minimum of $10,000 (e.g., sub-award) to university, or university department, college, or school, or institution liaison for program support, materials and student stipends.

5. Hold an institution wide HIV/AIDS/STD Prevention conference for all women campus wide promoting overall wellness among women.

6. Adhere to all program requirements specified in this announcement and the Notice of Grant Award.

7. Submit required progress, annual, and financial reports by the due dates stated in this announcement and the Notice of Grant Award.

8. Comply with the DHHS Protection of Human Subjects regulations (which require obtaining Institutional Review Board approval), set out at 45 CFR part 46, if applicable. General information about Human subjects regulations can be obtained through the Office for Human Research Protections (OHRP) at http://www.hhs.gov/ohrp, ohrp@osophs.dhhs.gov, Or toll free at (866) 477-4777.

The Federal Government will:

1. Conduct an Orientation meeting for the grantees within the first month of funding.

2. Conduct at least one site visit which includes some observation of program process.

3. Review time line and implementation plan.

4. Review all quarterly, annual, and final progress reports.

5. Provide technical assistance as needed.

The DHHS is committed to achieving the health promotion and disease prevention Objectives of Healthy People 2010 and the HealthierUS Initiative. Emphasis will be placed on aligning OWH activities and programs with the DHHS Secretarys four priority areas B heart disease, cancer, diabetes, and HIV/AIDSCand with the Healthy People 2010: Goal 2—eliminating health disparities due to age, gender, race/ethnicity, education, income, disability, or living in rural localities. Applicants are encouraged to indicate the Healthy People 2010 objectives this activity will address. More information on the Healthy People 2010 objectives may be found on the Healthy People 2010 Web site: http://www.health.gov/healthypeople. One free copy may be obtained from the National Center for Health Statistics (NCHS), 6525 Belcrest Road, Room 1064, Hyattsville, MD 20782 or telephone (301) 458-4636 [DHHS Publication No. (PHS) 99-1256]. This document may also be downloaded from the NCHS Web site: http://www.cdc.gov/nchs. Also, Steps to a HealthierUS is a bold new initiative from the Department that advances the goal of helping Americans live longer, better, and healthier lives.

To help implement the HealthierUS initiative, the Department launched the Steps to a HealthierUS program. It lays out DHHS priorities and programs for Steps to a HealthierUS, focusing attention on the importance of prevention and promising approaches for promoting healthy environments. More information on these initiatives can be found at http://www.healthierus.gov.

III. Eligibility Information

1. Eligible Applicants

Eligible entities may include: Not for profit community based organizations, national organizations, colleges and universities, clinics and hospitals, research institutions, State and local government agencies, tribal government and tribal/urban Indian entities and organizations. Faith-based organizations are eligible to apply.

2. Cost Share or Matching

Cost sharing, matching funds, and cost participation is not a requirement of this grant.

IV. Application and Submission Information

1. Address to Requst Application Package: Application kits may be requested by calling (240) 453-8822 or writing to: Office of Grants Management, Office of Public Health and Science (OPHS), DHHS, 1101 Wootton Parkway, Suite 550, Rockville, MD 20852. Applications must be prepared using Form OPHS-1. Applicants may fax a written request to the OPHS Office of Grants Management to obtain a hard copy of the application kit at (240) 453-8823.

2. Content and Format of Application and Submission: All completed applications must be submitted to the OPHS Office of Grants Management at the above mailing address. In preparing the application, it is important to follow ALL instructions provided in the application kit. Applications must be submitted on the forms supplied (OPHS-1, Revised 6/2001) and in the manner prescribed in the application kits provided by the OPHS. Applicants are required to submit an application signed by an individual authorized to act for the applicant agency or organization and to assume for the organization the obligations imposed by the terms and conditions of the grant award. The program narrative should not be longer than 25 double-spaced pages, not including appendices and required forms, using an easily readable, 12 point font. All pages, figures and tables should be numbered.

A Dun and Bradstreet Universal Numbering System (DUNS) number is required for all applications for Federal assistance. Organizations should verify that they have a DUNS number or take the steps necessary to obtain one. Instructions for obtaining a DUNS number are included in the application package, and may be downloaded from the Web site https://www.dnb.com/product/eupdate/requestOptions.html.

At a minimum, each application for a cooperative agreement grant funded under this grant announcement must:

• Provide Memoranda of Agreement(s) (MOA's) specific to the collaborating partner. If the applicant is outside the minority institution, an MOA with the targeted HBCU, HSI, or TCU must be submitted naming the individual who will work with the program, describe their function, and state their qualifications. The MOA must be signed by individuals with the authority to represent and bind the organization (e.g. president, dean of students, heatlth services director, department chair, etc. The MOA must be on letterhead specific to the institution. Form letters will not be accepted.

• Present a plan to implement, set up services and/or community partnerships to provide counseling and testing services for the women attending the institution, and evaluate the effectiveness of the program, although only a program plan with recruitment strategies and incentives have to be in place at the time the application is submitted. The program intent, plan, and curriculum must be clearly identified in the proposal. Applicants are encouraged to be creative in ways to include many different student organizations in the effort to educate and prevent the spread of HIV.

• Be a sustainable organization with an established network of partners capable of providing coordinated health services in the targeted community. The network of partner organizations must have the capability to coordinate and provide comprehensive, seamless health services for women and empower them with the tools necessary to prevent contracting HIV outreach/education activities in women's health to improve the health status of women in the community. The partners and their roles and responsibilities to the program process must be clearly identified in the application.

• The applicant will need to describe background and experience specific to HIV/AIDS and women, particularly young women, minority women, poor women, and women living with HIV/AIDS by addressing how the program will be culturally (location, dominant languages, stigma, ethnic/racial), gender, and age appropriate, and indicate a clear, sustainable framework for providing those services; understanding women specific issues which may impact the targeted population (empowerment, self esteem, welfare, children, violence, etc.); demonstrate prevention interventions for the women that the project plan will employ; implications of performing HIV/AIDS related services on college campuses while focusing on young women at increased risk for infection.

• Describe how the proposed plan will accomplish objectives of the program and demonstrate the following: Review of existing health services, gaps, needs, resources to college women; How each task will be accomplished; outline the prevention program or services planned; time line, goals and objectives for program implementation; and; tools used to measure effectiveness and overall success of program; propose a gender centered plan for maintaining a system of care to women attending the institution. By the end of Year 1 must be described in detail in the application.

• Demonstrate ability and experience developing and adapting “prevention curricula” appropriate to the cultural influences of HBCUs, HSIs, and TCUs; provide agency history of performing services and activities with young adults showing risk for HIV infection, particularly women; give project time periods and funding sources; show community acceptance through staff recognition, media, and requests for agency involvement.

• Demonstrate the ways in which the grantee's collaborating partners are gender and age appropriate, women-focused, women-friendly, women-relevant, and sensitive to the importance of HIV prevention and/or treatment for college age women.

• Detail/specify the roles and resources/services that each partner organization brings to the program, the duration and terms of agreement as confirmed by a signed agreement between the applicant organization and each partner, and describe how the partner organizations will operate. The partnership agreement(s) must name the individual who will work with the program, describe their function, and state their qualifications. The documents, specific to each organization (form letters are not acceptable), must be signed by individuals with the authority to represent and bind the organization (e.g., president, chief executive officer, executive director) and submitted as part of the grant application.

• Describe in detail plans for the evaluation of the program and when and how the evaluation will be used to enhance the program. The applicant must also indicate their willingness to participate in a national evaluation of the HIV prevention program to be conducted under the leadership of the OWH contractor.

Format and Limitations of Application: Applicants are required to submit an original ink-signed and dated application and 2 photocopies. All pages must be numbered clearly and sequentially beginning with the Project Profile. The application must be typed double-spaced on one side of plain 8 1/2″ x 11″ white paper, using at least a 12 point font, and contain 1″ margins all around.

The Project Summary and Project Narrative must not exceed a total of 25 double-spaced pages, excluding the appendices. The original and each copy must be stapled; the application should be organized in accordance with the format presented in the RFA. An outline for the minimum information to be included in the “Project Narrative” section is presented below. The content requirements for the Project Narrative portion of the application are divided into five sections and described below within each Factor. Applicants must pay particular attention to structuring the narrative to respond clearly and fully to each review Factor and associated criteria. Applications not adhering to these guidelines may not be reviewed.

I. Background

A. Program goals and objective(s).

B. Organization charts that include partners and a discussion of the resources being contributed by the Institution, partners, personnel and their expertise and how their involvement will help achieve the Institution program goals.

C. Understanding of women specific issues that may impact the targeted population.

D. Understanding of access to care and quality of care issues specific to women.

II. Implementation Plan (Approach to the establishment of the HIV program)

A. Plan for how each task will be completed with a time line; Illustrate how time line of the program plan is congruent with the minority institutions academic year.

B. Partnerships and referral system.

C. Plans for sustaining the program on campus.

D. Gender centered plan for maintaining a system of care to women attending the institution.

E. Inclusion of MOA (If applicant is not a minority institution, an MOA with the targeted institution must be included. The document must be specific to the institution.).

III. Management Plan

A. Key project staff, their resumes, and staffing chart for budgeted staff.

B. To-be-hired staff and their qualifications.

C. Staff responsibilities.

D. Management experience of the lead agency and partners as related to their role in the program.

E. Succession planning and cross-training of responsibilities.

F. Address management of confidentiality and ethics in performance.

G. Address the management of student organization projects, reporting requirements, and incentives.

IV. Local Evaluation Plan

A. Purpose.

B. Describe tools and procedures for measuring strengths and weaknesses planned prevention activities.

C. Use of results to enhance programs.

D. Indicators that reflect goals/objectives are being met.

Appendices

A. Memorandums of Agreement/Understanding/Partnership Letters.

B. Required Forms (Assurance of Compliance Form, etc.).

C. Key Staff Resumes.

D. Charts/Tables (Partners, advisory board, services, population demographics, components, etc.).

E. Other attachments.

Use of Funds: A majority of the funds from the award must be used to support staff and efforts aimed at implementing the program. The Program Coordinator, or the person responsible for the day-to-day management of the program, must devote at least a 50 percent level of effort to the program. Funds may also be used to make small awards to student organizations or peer educators that will be conducting other outreach activities directly related to the program goals. Additionally, funds may be used for no more than two staff persons to attend a national HIV conference to receive training or technical assistance.

Funds may be used for personnel, consultants, supplies (including screening, education, and outreach supplies), and grant related travel. Funds may not be used for construction, building alterations, equipment, medical treatment, or renovations. All budget requests must be justified fully in terms of the proposed program goals and objectives and include an itemized computational explanation/breakout of how costs were determined.

Meetings: The OWH will convene grantees once a year for orientation. The meeting will be held in the Washington metropolitan area or one of the ten (10) DHHS regional offices. The program budget should include a request for funds to pay for the travel, lodging, and meals for the orientation meeting. The meeting is usually held within the first six weeks post award.

3. Submission Date and Time

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Website Portal is encouraged.

Electronic grant application submissions must be submitted no later than 5 p.m. Eastern Time on the deadline date specified in the DATES section of the announcement using one of the electronic submission mechanisms specified below. All required hardcopy original signatures and mail-in items must be received by the OPHS Office of Grants Management no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible. Applicants are encouraged to initiate electronic applications early in the application development process, and to submit early on the due date or before. This will aid in addressing any problems with submissions prior to the application deadline.

Electronic Submissions via the Grants.gov Website Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the Grants.gov Website Portal must contain all completed online forms required by the application kit, the Program Narrative, Budget Narrative and any appendices or exhibits. All required mail-in items must received by the due date requirements specified above. Mail-In items may only include publications, resumes, or organizational documentation.

Upon completion of a successful electronic application submission via the Grants.gov Website Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the OPHS eGrants System

The OPHS electronic grants management system, eGrants, provides for applications to be submitted electronically. Information about this system is available on the OPHS eGrants Web site, https://egrants.osophs.dhhs.gov, or may be requested from the OPHS Office of Grants Management at (240) 453-8822.

When submitting applications via the OPHS eGrants system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however these mail-in items must be entered on the eGrants Application Checklist at the time of electronic submission, and must be received by the due date requirements specified above. Mail-In items may only include publications, resumes, or organizational documentation.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review

This program is subject to the Public Health Systems Reporting Requirements. Under these requirements, a community-based non-governmental applicant must prepare and submit a Public Health System Impact Statement (PHSIS). Applicants shall submit a copy of the application face page (SF-424) and a one page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) A copy of the face page of the application (SF 424), (b) a summary of the project (PHSIS), not to exceed one page, which provides: (1) A description of the population to be served, (2) a summary of the services to be provided, and (3) a description of the coordination planned with the appropriate State or local health agencies. Copies of the letters forwarding the PHSIS to these authorities must be contained in the application materials submitted to the OWH.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html. The due date for State process recommendations is 60 days after the application deadline. The OWH does not guarantee that it will accommodate or explain its responses to State process recommendations received after that date. (See “Intergovernmental Review of Federal Programs,” Executive Order 12372, and 45 CFR part 100 for a description of the review process and requirements.)

5. Funding Restrictions

Funds may not be used for construction, building alterations, equipment purchase, medical treatment, renovations, or to purchase food.

6. Other Submission Requirements

None.

V. Application Review Information

Criteria: The objective technical review of applications will consider the following factors:

Factor 1: Implementation Plan—30%

This section must discuss:

1. Appropriateness of the existing community resources and linkages established to deliver a coordinated HIV prevention program. How each task will be accomplished; outline the prevention program or services planned; time line, goals and objectives for program implementation; propose a gender centered response plan for maintaining a system of care to women attending the college/university.

2. Appropriateness of proposed approach.

3. Soundness of evaluation objectives for measuring program effectiveness and changes in health behaviors.

4. Relationship to targeted minority institution.

5. Appropriateness of approach toward young adult women attending a minority institution college or university.

6. Appropriate MOAs or Letters of Intent should support assertions made in this section.

Factor 2: Management Plan—25%

This section must discuss:

1. Applicant organization's capability to manage the project as determined by the qualifications of the proposed staff or requirements for to be hired staff;

2. Proposed staff level of effort; management experience of the lead agency; and the experience, resources and role of each partner organization as it relates to the needs and programs/activities of the program;

3. Staff experience as it relates to meeting the needs of the community and populations served; 4. Integration of students into the program;

5. Detailed position descriptions, resumes of key staff, and a staffing chart should be included in the appendix.

The management plan should also describe succession planning for key personnel and cross training of responsibilities. Thoughtful succession planning and cross training of responsibilities should contribute to the sustainability of the program and provide promotion potential.

Factor 3: Evaluation Plan—15%

A clear statement of program goal(s) and thoroughness, tools, and procedures used to measure the impact of planned prevention activities. List indicators that reflect the program's success in meeting the intent of the program. The feasibility and appropriateness of the program evaluation design, analysis of results, and procedures to determine if the program goals are met.

Factor 4: Objectives—15%

Merit of the objectives outlined by the applicant to address the HIV prevention program discussed in the program goals section in a way relevant to the targeted community needs and available resources. Objectives must be measurable and attainable within a stated time frame.

Factor 5: Background—15%

Adequacy of demonstrated knowledge of issues of HIV prevention for women, particularly minority women, young women, poor women and women living with HIV; demonstrated need within the proposed local community and target population of minority women; demonstrated support and established linkages in place to operate a fully functional HIV prevention program targeting a college campus; and documented past efforts/activities outcome with underserved women. Clear description of the target population including total population, percent women, race/ethnicity data, and age distribution. Suggested tables to be used to report these data are included in the Application Kit.

Review and Selection Process: Funding decisions will be made by the OWH, and will take into consideration the recommendations and ratings of the review panel, program needs, geographic location, stated preferences, and the recommendations of DHHS Regional Women's Health Coordinators (RWHC).

Award Administration Information

1. Award Notices

Successful applicants will receive a notification letter from the Deputy Assistant Secretary for Health (Women's Health) and a Notice of Grant Award (NGA), signed by the OPHS Grants Management Officer. The NGA shall be the only binding, authorizing document between the recipient and the OWH. Notification will be mailed to the Program Director identified in the application. Unsuccessful applicants will receive a notification letter with the results of the review of their application from the Deputy Assistant Secretary for Health (Women's Health).

2. Administrative and National Policy Requirements

The regulations set out at 45 CFR parts 74 and 92 are the Department of Health and Human Services (HHS) rules and requirements that govern the administration of grants. Part 74 is applicable to all recipients except those covered by part 92, which governs awards to State and local governments. Applicants funded under this announcement must be aware of and comply with these regulations. The CFR volume that includes parts 74 and 92 may be downloaded from http://www.access.gpo.gov/nara/cfr/waisidx_03/45cfrv1_03.html. The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting

In addition to those listed above, a successful applicant will submit a progress report and a final report. This report shall provide a detailed summary of major achievements, problems encountered, and actions taken to overcome them. Progress reports require data collection into the matrix provided by the national evaluator. The final report shall summarize the goals achieved and lessons learned in the course of the contract, and how the program will be sustained. The report shall be in the format established by the OWH, in accordance with provisions of the general regulations which apply under “Monitoring and Reporting Program Performance,” 45 CFR parts 74 and 92. The purpose of the quarterly and annual progress reports is to provide accurate and timely program information to program managers and to respond to Congressional, Departmental, and public requests for information about the program. An original and one copy of the quarterly progress report must be submitted by December 1, April 1, July 1, and September 1. If these dates fall on a Saturday or Sunday, the report will be due on Monday. The last quarterly report will serve as the annual progress report and must describe all project activities for the entire year. The annual progress report must be submitted by September 1 of each year and will serve as the non-competing continuation application. This report must include the budget request for the next grant year, with appropriate justification, and be submitted using Form OPHS-1.

VI. Agency Contact(s)

• For application kits and information on budget and business aspects of the application, please contact: Eric West, Associate Grants Management Officer, Office of Grants Management, Office of Public Health and Science, DHHS, 1101 Wootton Parkway, Suite 550, Rockville, MD 20857. Telephone: (240) 453-8822. Fax: (240) 453-8823.

• Questions regarding programmatic information and/or requests for technical assistance in the preparation of the grant application should be directed in writing to: Ms. Mary L. Bowers, Public Health Advisor, Office on Women's Health, Office of Public Health and Science, DHHS, 200 Independence Ave., SW., Rm 712E, Washington, DC 20201. Telephone: 202-260-0020. E-mail: mbowers@osophs.dhhs.gov.

VII. Other Information

Nine (9) HIV Prevention for Young Women attending Minority Institutions programs are currently funded by the OWH. Information about these programs may be found at the following Web site: http://www.womenshealth.gov/owh/fund/index.htm.

Definitions

For the purposes of this cooperative agreement program, the following definitions are provided:

AIDS: Acquired immunodeficiency syndrome is a disease in which the body's immune system breaks down and is unable to fight off certain infections and other illnesses that take advantage of a weakened immune system.

Community-based: The locus of control and decision-making powers is located at the community level, representing the service area of the community or a significant segment of the community.

Community-based organization: Public and private, nonprofit organizations that are representative of communities or significant segments of communities.

Culturally competency/ appropriate: Information and services provided at the educational level and in the language and cultural context that are most appropriate for the individuals for whom the information and services are intended. Additional information on cultural competency is available at the following Web site: http://www.aoa.dhhs.gov/May2001/factsheets/Cultural-Competency.html.

Cultural perspective: Recognizes that culture, language, and country of origin have an important and significant impact on the health perceptions and health behaviors that produce a variety of health outcomes.

Gender-based Care: Highlights inequalities between men and women in access to resources to promote and protect health, in responses from the health sector, and in the ability to exercise the right to quality health care.

Health Services: College or University supported entity which provides students with an array of health related services which may include care, prevention, mental health and wellness.

Hispanic Serving Institutions (HSI): An institution can be classified as a Hispanic Serving Institution if the Hispanic enrollment at a college or university is at least 25 percent of the total student enrollment. For a list of HSIs see http://www.chci.org/chciyouth/resources/hispanicserving.htm.

Historically Black Colleges and Universities (HBCU): Any historically black college or university that was established prior to 1964, whose principal mission was, and is, the education of black Americans, and that is accredited by a nationally recognized accrediting agency or association determined by the Secretary [of Education] to be a reliable authority as to the quality of training offered or is, according to such an agency or association, making reasonable progress toward accreditation. For a list of HBCUs see http://www.ed.gov/about/inits/list/whhbcu/edlite-list.html.

HIV: The human immunodeficiency virus that causes AIDS.

Holistic: Looking at women's health from the perspective of the whole person and not as a group of different body parts. It includes dental, mental, as well as physical health.

Lifespan: Recognizes that women have different health and psycho social needs as they encounter transitions across their lives and that the positive and negative effects of health and health behaviors are cumulative across a woman's life.

Multi-disciplinary: An approach that is based on the recognition that women's health crosses many disciplines, and that women's health issues need to be addressed across multiple disciplines, such as adolescent health, geriatrics, cardiology, mental health, reproductive health, nutrition, dermatology, endocrinology, immunology, rheumatology, dental health, etc.

Rural Community: All territory, population, and housing units located outside of urban areas and urban cluster.

Social Role: Recognizes that women routinely perform multiple, overlapping social roles that require continuous multi-tasking.

Student Organizations: University campus organization's that are run by students with student members, usually having a faculty advisor. Examples of student organizations include: sororities, fraternities, student government organizations, student associations, etc.

Sustainability: An organizations or program's staying power: the capacity to maintain both the financial resources and the partnerships/linkages needed to provide the services demanded from an OWH program. It also involves the ability to survive change, incorporate needed changes, and seize opportunities provided by a changing environment.

Tribal Colleges and Universities (TCU): Located on or near reservations, TCUs serve approximately 25,000 students, with the majority being American Indian students from more than 250 tribes. All TCUs offer two-year degrees, five offer four-year degrees and two offer graduate degrees. Tribal colleges are fully accredited by regional accrediting agencies, with the exception of three colleges that are candidates for accreditation. For a list of TCUs see http://www.ed.gov/about/inits/list/whtc/edlite-tclist.html.

Underserved Women: Women who encounter barriers to health care that result from any combination of the following characteristics: Poverty, ethnicity and culture, mental or physical state, housing status, geographic location, undocumented immigration status, language, age, and lack of health insurance/under-insured.

Women-centered/women-focused: Addressing the needs and concerns of women (women-relevant) in an environment that is welcoming to women, fosters a commitment to women, treats women with dignity, and empowers women through respect and education. The emphasis is on working with women, not for women. Women clients are considered active partners in their own health and wellness.

Dated: April 14, 2006.
Wanda K. Jones,
Deputy Assistant Secretary for Health (Women's Health).

[FR Doc. E6-6726 Filed 5-3-06; 8:45 am]

BILLING CODE 4150-33-P